DEPARTMENT OF JUSTICE

United States Parole Commission

Public Announcement; Pursuant To The Government In the Sunshine Act (Pub. L. 94-409) [5 U.S.C. Section 552b]

Date and Time: 11:30 a.m., Thursday, October 26, 2006.

Place: U.S. Parole Commission, 5550 Friendship Boulevard, 4th Floor, Chevy Chase, Maryland 20815.

Status: Closed Meeting.

Matters To Be Considered: The following matters will be considered during the closed portion of the Commission's Business Meeting:

Petitions for reconsideration involving five original jurisdiction cases pursuant to 28 CFR 2.27.

Agency Contact: Thomas W. Hutchison, Chief of Staff, United States Parole Commission, (301) 492-5990.

Dated: October 19, 2006.
Rockne Chickinell,
General Counsel, U.S. Parole Commission.

[FR Doc. 06-8871 Filed 10-20-06; 11:50 am]

BILLING CODE 4410-31-M